DEPARTMENT OF STATE

[Public Notice: 12396]

Specially Designated Global Terrorist Designations of Messaoud Belhireche, Talha al-Libi, Hamama Ould Khouier, and Hussein Ould Hammada

Acting under the authority of and in accordance with section 1(a)(ii)(B) of E.O. 13224, the Secretary of State has determined that the persons known as Messaoud Belhireche (also known as Usamah `Abd-al-Wahid al-Jaza'iri Belkacem, Usama Abu-`Abd-al-Wahid al-Jaza'iri, Abu Usama al-Jaza'iri) and Talha al-Libi (also known as Sidi Mohamed Ould Mohamed Salem, Abderrahmane Ould Mohamed Salem, Abu Talha al-Azawadi, Abu Talha al-Barbouci) are leaders of Jama'at Nusrat al-Islam wal-Muslimin (JNIM), an entity whose property and interests in property are blocked pursuant to a determination by the Secretary of State pursuant to E.O. 13224, and the persons known as Hamama Ould Khouier (also known as Hamza Ould Koiya, Hamza Tabankort, Hamama Mehri) and Hussein Ould Hammada (also known as Alhoussein Ould Hamada, Zakaria Tabankort) are leaders of al-Murabitoun, an entity whose property and interests in property are blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, the Secretary of State determines that no prior notice needs to be provided to any person subject to this determination who might have a constitutional presence in the United States, because to do so would render ineffectual the measures authorized in the Order.

This determination shall be published in the Federal Register.

Dated: April 23, 2024.
Elizabeth H. Richard,
Coordinator for Counterterrorism.

[FR Doc. 2024-14940 Filed 7-8-24; 8:45 am]

BILLING CODE 4710-AD-P